DEPARTMENT OF TRANSPORTATION

Pipeline and Hazardous Materials Safety Administration

[Docket No. PHMSA-2013-0181]

Pipeline Safety: Request for Special Permit

AGENCY: Pipeline and Hazardous Materials Safety Administration (PHMSA); DOT.

ACTION: Notice.

SUMMARY: Pursuant to the Federal pipeline safety laws, PHMSA is publishing this notice of a special permit request we have received from a pipeline operator, seeking relief from compliance with certain requirements in the Federal pipeline safety regulations. This notice seeks public comments on this request, including comments on any safety or environmental impacts. At the conclusion of the 30-day comment period, PHMSA will evaluate the request and determine whether to grant or deny a special permit.

DATES: Submit any comments regarding this special permit request by September 25, 2013.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT:

General: Kay McIver by telephone at 202-366-0113, or email at Kay.McIver@dot.gov.

Technical: Charles Helm by telephone at 405-686-2323, or email at Charles.Helm@dot.gov.

SUPPLEMENTARY INFORMATION: PHMSA has received a request for a special permit from a pipeline operator seeking relief from compliance with certain pipeline safety regulations. The request includes a technical analysis provided by the operator. The request has been filed at http://www.Regulations.gov and assigned docket number PHMSA-2013-0181. We invite interested persons to participate by reviewing this special permit requests at http://www.Regulations.gov, and by submitting written comments, data or other views. Please include any comments on potential environmental impacts that may result if this special permit is granted.

Before acting on this special permit request, PHMSA will evaluate all comments received on or before the comments closing date. Comments will be evaluated after this date if it is possible to do so without incurring additional expense or delay. PHMSA will consider each relevant comment we receive in making our decision to grant or deny a request.

PHMSA has received the following special permit request:

Docket No. | Requester | Regulation(s) affected | Nature of special permit
PHMSA-2013-0181 | Fairbanks Natural Gas, LLC (FNG) | 49 CFR 193.2155(b) | To authorize Fairbanks Natural Gas, LLC, (FNG) to construct a 125,000 Barrel Liquid Natural Gas (LNG) Single Containment Storage Tank at its existing storage and vaporization facility at 2942 Tria Road, in Fairbanks, Alaska. The proposed tank will be located within 1 mile of Metro Field Airport, a private airstrip with FAA identifier MTF. FNG requested that the Special Permit be valid for the 50-year life expectancy of the tank. 49 CFR 193.2155(b) states that “An LNG storage tank must not be located within a horizontal distance of 1 mile (1.6 km) from the ends, or ¼ mile (0.4 km) from the nearest point of a runway, whichever is longer.” The height of the LNG structures in the vicinity of an airport must also comply with Federal Aviation Administration (FAA) requirements in 14 CFR Section 1.1. FNG believes that the location of the tank at 0.84 miles from the end of the runway, and not directly in the traffic pattern of the airport represent a low risk to the public and airport safety. The height of the tank is approximately 40 feet lower in elevation than an existing known obstruction in the traffic pattern of Metro Field Airport, so FNG stated that its design will comply with requirements of 14 CFR 1.1.

Authority: 49 U.S.C. 60118 (c)(1) and 49 CFR 1.53.

Issued in Washington, DC on August 20, 2013.
Jeffrey D. Wiese,
Associate Administrator for Pipeline Safety.

[FR Doc. 2013-20641 Filed 8-23-13; 8:45 am]

BILLING CODE 4910-60-P